DEPARTMENT OF HEALTH AND HUMAN SERVICES

Centers for Disease Control and Prevention

[Request for Application 05049]

A Cooperative Agreement To Advance the Practice of Preventive Medicine; Notice of Intent To Fund Single Eligibility Award

A. Purpose

The Centers for Disease Control and Prevention (CDC) announces the intent to fund fiscal year (FY) 2005 funds for a cooperative agreement program to promote the attainment of the objectives outlined in “Healthy People 2010” by strengthening the workforce of health professionals (public health professionals, primary care practitioners, and health professionals specializing in prevention) ensuring that graduates of medical schools and graduate programs in public health receive excellent instruction, educational preparation and practical experience in the areas of disease prevention and health promotion. To move toward attainment of these objectives by (1) Assisting medical schools and public health graduate programs in integrating a preventive medicine curriculum into medical and graduate school curricula; (2) Serving as a resource to professional organizations and academic units in developing programs which deliver up-to-date education in prevention for health professionals; and (3) Assisting member institutions to develop projects on prevention effectiveness to (a) increase years of health life, and (b) eliminate health disparities as set forth in “Health People 2010.” Every health care provider must understand the basic principles of public health on which the objectives are grounded and must be adequately prepared to provide the clinical preventive services and counseling listed in “Healthy People 2010” objectives.

B. Eligible Applicant

Assistance will be provided only to the Association of Teachers of Preventive Medicine (ATPM). ATPM is the appropriate and only qualified organization to address the activities described under this program announcement.

ATPM is the only association that has an established membership of diverse professionals that includes teachers, practitioners, administrators, and residents in the specialty of preventive medicine, and graduate students from schools of medicine and public health, as well as from public health agencies. For 62 years, ATPM and its members have been in the forefront of advancing, promoting, and supporting health promotion and disease prevention in the education of physicians and other health professionals. ATPM provides an essential connection to individuals and institutions devoted to health promotion and disease prevention education.

C. Funding

Approximately $15,000,000 is available in FY 2005 to fund this award. It is expected that the award will begin on or before September 1, 2005 and will be made for a 12-month budget period within a project period of up to 5 years. Funding estimates may change.

D. Where To Obtain Additional Information

For general comments or questions about this announcement, contact:

Technical Information Management, CDC Procurement and Grants Office, 2920 Brandywine Road, Atlanta, GA 30341-4146, telephone: 770-488-2700.

For technical questions about this program, contact: John (Jack) Rogers, Technical Review Administrator, The Coordinating Center for Health Information and Services (CoCHIS), 4770 Buford Hwy, Mailstop K-38, Atlanta, GA 30341, telephone: 770-488-2516, e-mail: JJRogers@cdc.gov.

Dated: February 2, 2005.
William P. Nichols,
Director, Procurement and Grants Office, Centers for Disease Control and Prevention.

[FR Doc. 05-2372 Filed 2-7-05; 8:45 am]

BILLING CODE 4163-18-P